DEPARTMENT OF THE INTERIOR

Bureau of Land Management

[UT-030-08-1610-PH-24-1A]

Notice of Resource Advisory Committee Meeting

AGENCY: Grand Staircase-Escalante National Monument (GSENM), Bureau of Land Management (BLM), Department of the Interior.

ACTION: Notice of Grand Staircase-Escalante National Monument Advisory Committee (GSENMAC) Meeting.

SUMMARY: In accordance with the Federal Land Policy and Management Act (FLPMA) and The Federal Advisory Committee Act of 1972 (FACA), the U.S. Department of the Interior, Bureau of Land Management's (BLM) Grand Staircase-Escalante National Monument Advisory Committee (GSENMAC) will meet as indicated below.

DATES: The GSENMAC will meet March 5 and 6, 2008.

ADDRESSES: The GSENMAC will meet at the Escalante Interagency Visitor Center, Conference Room, 755 W. Main Street, Escalante, UT.

FOR FURTHER INFORMATION CONTACT: Larry Crutchfield, Public Affairs Officer, GSENM Headquarters Office, 190 East Center, Kanab, Utah 84741; phone (435) 644-4310, or e-mail larry_crutchfield@blm.gov.

SUPPLEMENTARY INFORMATION: The meeting on March 5 will begin at 8:30 a.m. and conclude at 6 p.m.; the meeting on March 6 will begin at 8:30 a.m. and conclude at 3:30 p.m.

The Grand Staircase-Escalante National Monument Advisory Committee (GSENMAC) was first appointed by the Secretary of Interior on September 26, 2003, pursuant to the Monument Management Plan, the Federal Land Policy and Management Act of 1976 (FLPMA), and the Federal Advisory Committee Act of 1972 (FACA) and was subsequently reappointed June 2, 2006. As specified in the Monument Management Plan, the GSENMAC will have several primary tasks: (1) Review evaluation reports produced by the Management Science Team and make recommendations on protocols and projects to meet overall objectives. (2) Review appropriate research proposals and make recommendations on project necessity and validity. (3) Make recommendations regarding allocation of research funds through review of research and project proposals as well as needs identified through the evaluation process above. (4) Could be consulted on issues such as protocols for specific projects.

Topics to be presented and discussed by the GSENMAC include: Management updates to the GSENMAC, Ad Hoc Reports on Restoration and Information management, and discussion of science planning.

Members of the public are welcome to address the committee beginning at 5 p.m. local time on March 5, 2008, in Escalante, Utah, at the Interagency Visitor Center. Depending on the number of persons wishing to speak, a time limit could be established. Interested persons may make oral statements to the GSENMAC during this time or written statements may be submitted for the GSENMAC's consideration. Written statements can be sent to: Grand Staircase-Escalante National Monument, Attn.: Larry Crutchfield, 190 E. Center Street, Kanab, UT 84741. Information to be distributed to the GSENMAC is requested 10 days prior to the start of the GSENMAC meeting.

All meetings are open to the public; however, transportation, lodging, and meals are the responsibility of the participating public.

Dated: January 18, 2008.
Rene Berkhoudt,
Acting Monument Manager, Grand Staircase-Escalante National Monument.

[FR Doc. E8-1272 Filed 1-24-08; 8:45 am]

BILLING CODE 4310-$$-P